JUDICIAL CONFERENCE OF THE UNITED STATES

Meeting of the Judicial Conference Advisory Committee on Rules of Criminal Procedure

AGENCY: Judicial Conference of the United States, Advisory Committee on Rules of Criminal Procedure.

ACTION: Notice of open meeting.

SUMMARY: The Advisory Committee on Rules of Criminal Procedure will hold a meeting on October 10, 2018. The meeting will be open to public observation but not participation. An agenda and supporting materials will be posted at least 7 days in advance of the meeting at: http://www.uscourts.gov/rules-policies/records-and-archives-rules-committees/agenda-books.

DATES: October 10, 2018 from 9:00 a.m. to 5:00 p.m.

ADDRESSES: Vanderbilt University Law School, Alexander Room, 1st Floor, 131 21st Avenue South, Nashville, TN 37203.

FOR FURTHER INFORMATION CONTACT: Rebecca A. Womeldorf, Rules Committee Secretary, Rules Committee Staff, Administrative Office of the United States Courts, Washington, DC 20544, telephone (202) 502-1820.

Dated: July 13, 2018.
Rebecca A. Womeldorf,
Rules Committee Secretary.

[FR Doc. 2018-15360 Filed 7-18-18; 8:45 am]

BILLING CODE 2210-55-P